DEPARTMENT OF LABOR

Office of the Secretary

Submission for OMB Review; Comment Request

ACTION: Notice.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including, among other things, a description of the likely respondents, proposed frequency of response, and estimated total burden may be obtained from the RegInfo.gov Web site at http://www.reginfo.gov/public/do/PRAMain or by contacting Linda Watts Thomas on 202-693-4223 (this is not a toll-free number); e-mail mail to: DOL_PRA_PUBLIC@dol.gov.

Interested parties are encouraged to send comments to the Office of Information and Regulatory Affairs, Attn: OMB Desk Officer for the Department of Labor—Mine Safety and Health Administration (MSHA), Office of Management and Budget, 725 17th Street, NW., Room 10235, Washington, DC 20503, Telephone: 202-395-4816/Fax: 202-395-5806 (these are not toll-free numbers), e-mail: OIRA_submission@omb.eop.gov within 30 days from the date of this publication in the Federal Register. In order to ensure the appropriate consideration, comments should reference the applicable OMB Control Number (see below).

The OMB is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Agency: Mine Safety and Health Administration.

Type of Review: Extension without change of a currently approved collection.

Title of Collection: Safety Standards for Underground Coal Mine Ventilation—Belt Entry Used as an Intake Air Course to Ventilate Working Sections and Areas Where Mechanized Mining Equipment Is Being Installed or Removed.

OMB Control Number: 1219-0144.

Affected Public: Business or other for-profit.

Total Estimated Number of Respondents: 2,055.

Total Number of Responses: 24,767.

Total Estimated Annual Burden Hours: 5,181.

Total Estimated Annual Cost Burden (operating/maintaining): $863,397.

Description: MSHA published a final rule revising the Agency's requirements for mine rescue teams for underground coal mines on February 8, 2008.

Background: The United Mine Workers of America challenged the final rule in the U.S. Court of Appeals for the District of Columbia Circuit (Court). On February 10, 2009, the Court vacated several of the rule's provisions. Consistent with the Court's decision, MSHA revised its requirements for mine rescue teams for underground coal mines on June 17, 2009. The 2008 mine rescue team standard and 2009 revision added burden to existing information collection requirements and imposed two new information collection requirements.

MSHA last submitted paperwork package 1219-0144 to OMB in May 2009, under the emergency review procedures in 5 CFR 1320.13.

Section 4 of the Mine Improvement and New Emergency Response (MINER) Act of 2006 required MSHA to promulgate standards for mine rescue teams for underground coal mines. The May 2009 paperwork package 1219-0144 addressed only the increased burden associated with the revised and new standards and did not include the information collection burden for the existing mine rescue team standard not addressed by the MINER Act, which had been approved under paperwork package 1219-0078 for both coal and metal and nonmetal mines. This paperwork package 1219-0144 combines the additional burden from the revised and new standards for underground coal mine rescue teams with the existing information collection burden, which has been removed from paperwork package 1219-0078. (The metal and nonmetal mine rescue team paperwork package, OMB control number 1219-0078, has been extended to February 28, 2013, ICR reference number 200912-1219-003.)

This package covers the following requirements for coal mines:

• Each operator of a coal mine who provides rescue teams is required to send the District Manager a statement describing the mine's method of compliance with the standard.

• Small or remote mines may submit an application of an arrangement for alternative mine rescue capability to MSHA for approval.

• A person trained in the use and care of the breathing apparatus is required to certify by signature and date that the required inspections and tests were done, take corrective action if indicated, and record any corrective action taken.

• Each member of a mine rescue team must be examined annually by a physician who must certify that each person is physically fit to perform mine rescue and recovery work.

• A record of the training received by each mine rescue team member in the use, care, and maintenance of the type of breathing apparatus that will be used by the mine rescue team must be made and kept on file at the mine rescue station for a period of one year. The operator must provide the District Manager information concerning the schedule of upcoming training when requested.

• Each mine must have a mine rescue notification plan outlining the procedures to be followed in notifying the mine rescue teams when there is an emergency that requires their services.

• Underground coal mine operators must certify that each designated coal mine rescue team meets the requirements of 30 CFR part 49 subpart B.

• Coal mine operators must make arrangements for 24-hour emergency medical assistance and transportation for injured persons and to post this information at appropriate places at the mine, including the names, titles, addresses, and telephone numbers of all persons or services currently available under those arrangements. For additional information, see related notice published in the Federal Register on April 13, 2010 (Vol. 75 page 18888).

Dated: August 24, 2010.
Linda Watts Thomas,
Acting Departmental Clearance Officer.

[FR Doc. 2010-21580 Filed 8-30-10; 8:45 am]

BILLING CODE 4510-43-P